PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995.

DATES: Submit comments on or before January 29, 2018.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION:

Title: Interview Rating Tool.

OMB Control Number: 0420-0555.

Type of Request: Review/Re-Approve.

Affected Public: Individuals.

Respondents Obligation to Reply: Voluntary.

Burden to the Public:

Estimated burden (hours) of the collection of information:

a. Number of respondents: 10,000.

b. Frequency of response: One time.

c. Completion time: 90 minutes.

d. Annual burden hours: 15,000 hours.

General description of collection: The Peace Corps will use the information as an integral part of the selection process to learn whether an applicant possesses the necessary characteristics and skills to serve as a Peace Corps Volunteer. The information will be used to determine if an invitation to serve will be issued.

Request for comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on December 21, 2017.
Denora Miller,
FOIA/Privacy Act Officer, Management.

[FR Doc. 2017-28118 Filed 12-28-17; 8:45 am]

BILLING CODE 6051-01-P